DEPARTMENT OF ENERGY

Federal Energy Regulatory Commission

[Project No. 2985-008 Massachusetts]

Onyx Specialty Papers, Inc; Notice of Availability of Environmental Assessment

In accordance with the National Environmental Policy Act of 1969 and the Federal Energy Regulatory Commission's (Commission or FERC's) regulations, 18 Code of Federal Regulations (CFR) Part 380 (Order No. 486, 52 FR 47897), Commission staff has reviewed the Onyx Specialty Papers, Inc.'s application for surrender of project license for the Willow Mill Hydroelectric Project (FERC Project No. 2985) and has prepared an environmental assessment (EA). The project is located on the Housatonic River, in the Town of Lee, Berkshire County, Massachusetts.

The EA contains the Commission staff's analysis of the potential environmental effects of the proposed surrender of license and concludes that the proposal would not constitute a major federal action that would significantly affect the quality of the human environment.

A copy of the EA is available for review at the Commission in the Public Reference Room 2-A of the Commission's offices at 888 First Street NE., Washington, DC 20426. The EA also may be viewed on the Commission's Internet Web site at (www.ferc.gov) using the “eLibrary” link. Enter the docket number excluding the last three digits in the docket number field to access the document. Additional information about the project is available from the Commission's Web site using the eLibrary link. For assistance with eLibrary, contact FERCOnlineSupport@ferc.gov or toll-free at (866) 208-3676; for TTY contact (202) 502-8659.

You may also register online at www.ferc.gov/docs-filing/esubscription.asp to be notified via email of new filings and issuances related to this or other pending projects. For assistance, contact FERC Online Support.

For further information, contact Carlisa Linton by telephone at 202-502-8416 or by email at Carlisa.linton-peters@ferc.gov.

Dated: June 29, 2012.
Kimberly D. Bose,
Secretary.

[FR Doc. 2012-16628 Filed 7-6-12; 8:45 am]

BILLING CODE 6717-01-P